DEPARTMENT OF AGRICULTURE

Agricultural Marketing Service

7 CFR Part 52

[Document Number AMS-FV-08-0076; SC-16-334]

United States Standards for Grades of Frozen Onions

AGENCY: Agricultural Marketing Service, USDA.

ACTION: Notice and request for comments.

SUMMARY: The Agricultural Marketing Service (AMS) of the Department of Agriculture (USDA) is soliciting comments on its proposal to create new United States Standards for Grades of Frozen Onions. The American Frozen Food Institute (AFFI) petitioned AMS to develop new grade standards for frozen onions. AMS has received additional industry comments on several discussion drafts of the proposed standards. The grade standards would provide a common language for trade, a means of measuring value in the marketing of frozen onions, and guidance on the effective use of frozen onions.

DATES: Comments must be submitted on or before January 23, 2017.

ADDRESSES: Written comments may be submitted via the Internet to http://www.regulations.gov; by email to Brian.Griffin@ams.usda.gov; by mail to Brian E. Griffin, Standardization Branch, Specialty Crops Inspection Division, Specialty Crops Program, Agricultural Marketing Service, U.S. Department of Agriculture, 1400 Independence Avenue SW., Room 1536, South Building; STOP 0247, Washington, DC 20250; or by fax to (202) 690-1527. All comments should reference the document number, date, and page number of this issue of the Federal Register. All comments will be posted without change, including any personal information provided. All comments submitted in response to this notice will be included in the public record and will be made available to the public on the Internet via http://www.regulations.gov. Comments will be made available for public inspection at the above address during regular business hours or can be viewed at: http://www.regulations.gov.

FOR FURTHER INFORMATION CONTACT: Brian E. Griffin, Agricultural Marketing Specialist, Specialty Crops Inspection Division, Specialty Crops Program, Agricultural Marketing Service, U.S. Department of Agriculture, 1400 Independence Avenue SW., Room 1536, South Building; STOP 0247, Washington, DC 20250; telephone (202) 720-5021; fax (202) 690-1527; or, email Brian.Griffin@ams.usda.gov. Copies of the proposed revised grade standards are published with this notice and can be viewed at http://www.regulations.gov.

SUPPLEMENTARY INFORMATION: Section 203(c) of the Agricultural Marketing Act of 1946 (Act) (7 U.S.C. 1621-1627), as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official grade standards available upon request. The United States Standards for Grades of Fruits and Vegetables unrelated to Federal Marketing Orders or U.S. Import Requirements no longer appear in the Code of Federal Regulations, but are maintained by USDA, AMS, Specialty Crops Program, and are available on the Internet at http://www.ams.usda.gov/scihome.

AMS is proposing to establish U.S. Standards for Grades of Frozen Onions using the procedures in part 36, Title 7 of the Code of Federal Regulations (7 CFR part 36).

Background: The American Frozen Food Institute (AFFI) petitioned AMS to develop new grade standards for frozen onions. AFFI is a national trade association representing the interests of U.S. frozen food processors and their suppliers in all frozen food sectors, including processors and packers of frozen onions. AFFI's more than 500 member companies represent approximately 90 percent of all frozen food processed annually in the United States. The AFFI petition provided information on product styles, sample sizes, and a product description for use in the grade standards.

AMS asked the petitioner for various styles of samples in order to determine grades of frozen onions. AMS distributed several discussion drafts of proposed standards to AFFI, instituted changes to the drafts once agreement was reached, then published several Federal Register notices in order to receive comments from all interested parties (see 66 FR 21116, 68 FR 11801, 68 FR 27010, and 76 FR 31575).

Comments

AMS responded to comments received in response to the drafts as follows:

1. AMS agreed to include stem material, sprout material, and root material as defects in the “core material” defect category for strips, diced, and other styles.

2. AMS agreed to include an AFFI proposal to add and define dark green units with dark green stripes across 50 percent or more of the onion unit as a defect.

3. AMS agreed to include onion units from ⅜ inch (10mm) to ⅞ inch (22mm) under the whole styles category as Type II (Pearl).

4. In response to AFFI comments, AMS agreed to classify the style “minced” in the category of “other” styles.

5. AFFI expressed concern that defects, as defined in the proposed section on Acceptable Quality Levels (AQLs) for quality defects, were defined by count and not by weight, and that larger units would be allowed a smaller number of defects, and that smaller units would be allowed a large number of defects. AMS agreed, and after reevaluation, based the sample size for quality defects in whole units by count (50 count), and for the styles “diced,” “strips,” and “other” by weight (450 grams). AFFI agreed with the adjusted sample sizes and AQLs.

6. AFFI also expressed concern that the proposed AQLs allowed many more defects than current industry practices, and submitted examples of current buyers specifications to demonstrate this. AMS then modified the AQLs by reducing the number of defects allowed per hundred units to align it with current industry practices, based on the AFFI request.

7. AMS did not modify use of 450 gram samples in response to AFFI questioning why we used 450 grams for the individual sample sizes for styles other than whole instead of 454 grams, which equals one pound. AMS responded that AQLs are based on increments of 50 units so rounding to the nearest AQL results in using 450 grams per sample unit or approximately one pound. AFFI concurred with use of 450 gram samples.

8. In response to a request to revise the definitions of “good appearance” and “reasonably good appearance” because they were too similar, AMS added flowability, brightness, and overall appearance to the description of “reasonably good appearance,” and also added the classification and definition for “poor appearance.” AFFI agreed to the new terminology and additional classification.

9. In response to a comment received, AMS did not include a requirement for heat treatment but added that option in the product description, by means of blanching. The revised statement is: “have been properly prepared, washed, blanched or unblanched, and then frozen in accordance with good commercial practice and maintained at temperatures necessary to preserve the product.” AFFI concurred with the revised product description.

10. In response to AFFI comments, AMS agreed to limit the product description to “individually quick frozen” onions.

11. In accordance with AMS' policy requiring commodities covered by U.S. grade standards to comply with all federal, state, and local laws, AMS did not include microbiological requirements, storage temperatures, shelf life requirements, and limits for chemical and pesticide residues to the proposed frozen onion grade standards. Such requirements are not typically included in the voluntary U.S. grade standards. AFFI concurred.

12. In response to a request from AFFI members, AMS changed the proposed size descriptions for “whole” styles as follows:

Type I from ¾ inch (19mm) to 1⅞ inch (48mm) changed to ⅞ inch (22mm) to 1⅞ inch (48mm).

Type II (Pearl) from ¼ inch (6mm) to ⅞ inch (22mm) changed to ⅜ inch (10mm) to ⅞ inch (22mm).

13. In reponse to an AFFI member's comment to the AMS' Federal Register notice published on June 1, 2011 (76 FR 31575), AMS revised the Defect Tables and Definitions of the proposed standards. The AFFI member, a major processor and distributor of strips and diced styles of frozen onions, agreed with most of the proposal, but provided additional suggestions concerning whole, strips, diced, and other styles containing crown material defects in its comments. The member also suggested additional provisions for defects, such as core material, sprouts, seed stems, and root material; and, suggested that portions of root crown exceeding ⅜ inch (10 mm) in diameter be listed in a separate category. AMS agreed and revised Defect Tables I (whole style) and II (strips, diced, and other styles) of the proposed grade standards and definitions to include major and minor defects in core material, to include root crown, with dimensions listed accordingly.

AMS sent a discussion draft of the proposed standards to AFFI members for concurrence. AMS received confirmation in November 2015 that AFFI members agreed with the changes, and had no additional comments.

Conclusions

These proposed standards would establish the grade levels “A,” “B,” and “Substandard,” as well as proposed AQL tolerances and acceptance numbers for each quality factor as defined for each grade level.

AMS used the standard format for U.S. standards for grades using “individual attributes.” Specifically, the proposed grade standards would provide for tolerance limits for defects; acceptance numbers of allowable defects with single letter grade designation based on a specified number or weight of sample units; a product description for frozen onions; and, style designations for “whole,” “strips,” “diced,” and “other” styles. The proposal also would define quality factors, AQLs, and tolerances for defects in frozen onions, and determine sample unit sizes for this commodity. The grade of a sample unit of frozen onions would be ascertained considering the factors of varietal characteristics, color, flavor and odor, appearance, absence of grit or dirt, defects, and character.

These voluntary grade standards would provide a common language for trade, a means of measuring value in marketing, and guidance in the effective use of frozen onions.

The official grade of a lot of frozen onions covered by these standards would be determined by the procedures set forth in the Regulations Governing Inspection and Certification of Processed Fruits and Vegetables, Processed Products Thereof, and Certain Other Processed Food Products (7 CFR 52.1 to 52.83).

AMS is publishing this notice with a 60-day comment period that will provide a sufficient amount of time for interested persons to comment on the proposed new grade standards for frozen onions.

Authority: 7 U.S.C. 1621-1627

Dated: November 18, 2016.
Elanor Starmer,
Administrator, Agricultural Marketing Service.

[FR Doc. 2016-28255 Filed 11-22-16; 8:45 am]

BILLING CODE 3410-02-P